DEPARTMENT OF THE INTERIOR

Bureau of Land Management

[CO-930-1430-ET; COC-28312]

Public Land Order No. 7520; Revocation of Executive Order No. 1405; Colorado

AGENCY: Bureau of Land Management, Interior.

ACTION: Public Land Order.

SUMMARY: This order revokes an Executive Order in its entirety as it affects 60 acres of public land withdrawn for the United States Forest Service Sapinero Guard Station. This action will open the land to surface entry and mining. The land has been and will remain open to mineral leasing.

EFFECTIVE DATE: May 13, 2002.

FOR FURTHER INFORMATION CONTACT: Doris E. Chelius, BLM Colorado State Office, 2850 Youngfield Street, Lakewood, Colorado 80215-7076, 303-239-3706.

SUPPLEMENTARY INFORMATION: By virtue of the authority vested in the Secretary of the Interior by Section 204 of the Federal Land Policy and Management Act of 1976, 43 U.S.C. 1714 (1994), it is ordered as follows:

1. Executive Order No. 1405, dated August 25, 1911, which withdrew public land for the United States Forest Service Sapinero Guard Station, is hereby revoked in its entirety:

Gunnison National Forest

New Mexico Principal Meridian

T. 49 N., R. 4 W.,

Sec. 20, SE¼SW¼SW¼;

Sec. 29, NE¼NW¼ and NE¼NW¼NW¼.

The area described contains 60 acres in Gunnison County.

2. At 9 a.m. on May 13, 2002, the land will be opened to the operation of the public land laws generally, subject to valid existing rights, the provisions of existing withdrawals, other segregations of record, and the requirements of applicable law. All valid applications received at or prior to 9 a.m. on May 13, 2002, shall be considered as simultaneously filed at that time. Those received thereafter shall be considered in the order of filing.

3. At 9 a.m. on May 13, 2002, the land will be opened to location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: March 25, 2002.
Rebecca W. Watson,
Assistant Secretary.

[FR Doc. 02-8894 Filed 4-11-02; 8:45 am]

BILLING CODE 4310-JB-P